DEPARTMENT OF LABOR

Employment and Training Administration

[TA-W-52,265]

Gasboy International, LLC, Lansdale, PA; Notice of Termination of Investigation

Pursuant to section 221 of the Trade Act of 1974, as amended, an investigation was initiated on July 10, 2003, in response to a worker petition filed by a company official on behalf of workers at Gasboy International, LLC, Lansdale, Pennsylvania.

The company official has withdrawn the petition; thus, further investigation would serve no purpose and the investigation under this petition has been terminated.

Signed at Washington, DC, this 25th day of July, 2003
Linda G. Poole,
Certifying Officer, Division of Trade Adjustment Assistance.

[FR Doc. 03-19867 Filed 8-4-03; 8:45 am]

BILLING CODE 4510-30-P